DEPARTMENT OF COMMERCE

International Trade Administration

[A-570-601]

Tapered Roller Bearings and Parts Thereof, Finished and Unfinished, From the People's Republic of China: Notice of Second Extension of Time Limit for the Final Results of the 2008-2009 Administrative Review of the Antidumping Duty Order

AGENCY: Import Administration, International Trade Administration, Department of Commerce.

DATES: Effective Date: November 26, 2010.

FOR FURTHER INFORMATION CONTACT: Brendan Quinn or Trisha Tran, AD/CVD Operations, Import Administration, International Trade Administration, U.S. Department of Commerce, 14th Street and Constitution Avenue, NW., Washington, DC 20230, telephone: (202) 482-5848 or (202) 482-4852, respectively.

SUPPLEMENTARY INFORMATION:

Background

On July 29, 2009, the Department of Commerce (“Department”) initiated the administrative review of the antidumping duty order on tapered roller bearings and parts thereof, finished or unfinished (“TRBs”), from the People's Republic of China (“PRC”) for the period June 1, 2008, through May 31, 2009. See Initiation of Antidumping and Countervailing Duty Administrative Reviews and Deferral of Administrative Review, 74 FR 37690 (July 29, 2009). On July 15, 2010, the Department published its preliminary results of the administrative review of the antidumping order on TRBs from the PRC. See Tapered Roller Bearings and Parts Thereof, Finished or Unfinished, from the People's Republic of China: Preliminary Results of the 2008-2009 Administrative Review of the Antidumping Duty Order, 75 FR 41148 (July 15, 2010). On September 21, 2010, the Department published a notice extending the deadline for the final results of the 2008-2009 administrative review. See Tapered Roller Bearings and Parts Thereof, Finished and Unfinished, from the People's Republic of China; Extension of Time Limit for the Final Results of the 2008-2009 Administrative Review of the Antidumping Duty Order, 75 FR 57443 (September 21, 2010). The final results are currently due no later than December 12, 2010.

Extension of Time Limit for Final Results

Section 751(a)(3)(A) of the Tariff Act of 1930, as amended (“the Act”), requires the Department to issue the final results in an administrative review within 120 days after the date on which the preliminary results are published. However, if it is not practicable to complete the review within this time period, section 751(a)(3)(A) of the Act allows the Department to extend the time period to a maximum of 180 days. On September 21, 2010, the Department extended the deadline of the final results by 30 days. Thus, the Department may extend the deadline of the final results by an additional 30 days.

We determine that it is not practicable to complete the final results of this review within the current deadline because the Department continues to require additional time to analyze: (a) Issues raised in recent surrogate value submissions; and (b) the arguments in the case and rebuttal briefs concerning surrogate valuation, scope issues, and issues concerning the margin calculations for the respondents. Therefore, given the complexity of issues in this case, we are extending the time limit for completion of the final results by an additional 30 days, in accordance with section 751(a)(3)(A) of the Act. An extension of 30 days from the current deadline of December 12, 2010, would result in a new deadline of January 11, 2011. As such, the final results are now due no later than January 11, 2011.

This notice is published pursuant to sections 751(a) and 777(i) of the Act.

Dated: November 18, 2010.
Susan H. Kuhbach,
Acting Deputy Assistant Secretary for Antidumping and Countervailing Duty Operations.

[FR Doc. 2010-29862 Filed 11-24-10; 8:45 am]

BILLING CODE 3510-DS-P